DEPARTMENT OF DEFENSE

Office of the Secretary

[Transmittal No. 19-44]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-44 with attached Policy Justification and Sensitivity of Technology.

Dated: December 16, 2019.
Aaron T. Siegel,
Alternate OSD Federal Register Liaison Officer, Department of Defense.

BILLING CODE 5001-06-P

BILLING CODE 5001-06-C

Transmittal No. 19-44

Notice of Proposed Issuance of Letter of Offer Pursuant to Section 36(b)(1) of the Arms Export Control Act, as amended

(i) Prospective Purchaser: Government of Denmark

(ii) Total Estimated Value:

Major Defense Equipment * | $100 million
Other | $100 million
TOTAL | $200 million

(iii) Description and Quantity or Quantities of Articles or Services under Consideration for Purchase: The Government of Denmark has requested to expand operational mission capability of previously purchased nine (9) MH-60R Multi-Mission helicopters, by equipping them with Anti-Submarine Warfare (ASW) capabilities inherent in MH-60R design to include the following items:

Major Defense Equipment (MDE):

Nine (9) AN/AQS-22 Airborne Low Frequency Sonar (ALFS) Systems

Non-MDE:

Also included are six hundred (600) AN/SSQ-36/53/62 Sonobuoys; spare and repair parts; support and test equipment; communication equipment; publications and technical documentation; personnel training and training equipment; U.S. Government and contractor engineering, technical, and logistics support services; and other related elements of logistical and program support.

(iv) Military Department: Navy (DE-P-LBT)

(v) Prior Related Cases, if any: DE-P-SAE and DE-P-GBP

(vi) Sales Commission, Fee, etc., Paid, Offered, or Agreed to be Paid: None

(vii) Sensitivity of Technology Contained in the Defense Article or Defense Services Proposed to be Sold: See Attached Annex.

(viii) Date Report Delivered to Congress: August 27, 2019

* As defined in Section 47(6) of the Arms Export Control Act.

POLICY JUSTIFICATION

Denmark—Airborne Low Frequency Sonar System and Sonobuoys

The Government of Denmark has requested to buy nine (9) AN/AQS-22 Airborne Low Frequency Sonar (ALFS) systems; six hundred (600) AN/SSQ-36/53/62 Sonobuoys; spare and repair parts; support and test equipment; communication equipment; publications and technical documentation; personnel training and training equipment; U.S. Government and contractor engineering, technical, and logistics support services; and other related elements of logistical and program support. The total estimated program cost is $200 million.

This proposed sale will support the foreign policy and national security objectives of the United States by helping to improve the military capability of Denmark, a NATO ally that is an important force for ensuring political stability and economic progress within Europe.

The proposed sale will improve Denmark's capability to meet current and future threats from enemy weapon systems. The ALFS and Sonobuoys will provide the capability to perform anti-submarine warfare missions. Denmark will use the enhanced capability as a deterrent to regional threats and to strengthen its homeland defense. Denmark will have no difficulty absorbing this equipment into its armed forces.

The proposed sale of this equipment and support will not alter the basic military balance in the region.

The principal contractor will be Lockheed Martin Rotary and Mission Systems in Oswego, New York. There are no known offset agreements in connection with this potential sale.

Implementation of this proposed sale will not require the assignment of additional U.S. Government or contractor representatives to Denmark.

There will be no adverse impact on U.S. defense readiness as a result of this proposed sale.

Transmittal No. 19-44

Notice of Proposed Issuance of Letter of Offer Pursuant to Section 36(b)(1) of the Arms Export Control Act

Annex

Item No. vii

(vii) Sensitivity of Technology:

1. The AN/AQS-22 Airborne Low Frequency Sonar (ALFS) is the primary undersea warfare sensor of the MH-60R multi-mission helicopter. This integrated dipping sonar system enables the MH-60R to accomplish the assigned Anti-Submarine Warfare missions of submarine detection, tracking, localization, and classification. It also performs missions relating to acoustic intercept, underwater communications, and environmental data acquisition. Acoustics algorithms are used to process dipping sonar and sonobuoy data for target tracking and for the Acoustics Mission Planner (AMP), which is a tactical aid employed to optimize the deployment of the sonobuoy and the dipping sonar. Acoustics hardware is Unclassified. The acoustics system is classified up to Secret when environmental and threat databases are loaded and/or the system is processing acoustic data. ALFS hardware and support equipment, test equipment, and maintenance spares are unclassified. Technical data and documentation for the ALFS weapon system is classified up to Secret.

2. The AN/SSQ-36 Bathythermograph (BT) sonobuoy is an A-size, expendable and non repairable sonobuoy. The BT sonobuoy is an expendable thermal gradient measurement sonobuoy that operates over Radio Frequency (RF) channels. It consists of a thermistor temperature probe that descends through the bottom of the sonobuoy canister, producing a continuous reading of temperature versus depth, and transmits the readings to an aircraft or nearby vessel. The thermistor temperature probe can descend up to 2625 feet.

3. The AN/SSQ-53 Directional Frequency Analysis and Recording (DIFAR) sonobuoy is an A-size, expendable and non-repairable directional passive sonobuoy. Basic capabilities include four hydrophone depth selections up to 1000 feet with five time duration selections up to eight hours.

4. The AN/SSQ-62 Directional Command Activated Sonobuoy System (DICASS) sonobuoy is an A-size, expendable, non-repairable, directional active sonobuoy. The DICASS, in conjunction with the monitoring unit's signal processing equipment, provides active sonar range, bearing, and Doppler information on a submerged contact. The DICASS sonobuoy is designed to develop and maintain attack criteria. While often employed in multiple sonobuoy patterns; the DICASS sonobuoy is designed to permit single buoy attack criteria. The flexibility inherent in the monitoring unit's control over the various sonobuoy functions enables optimum sonobuoy employment over a wide range of environmental and target conditions.

5. If a technologically advanced adversary were to obtain knowledge of the specific hardware and software elements, the information could be used to develop countermeasures, which might reduce weapon system effectiveness or be used in the development of a system with similar or advanced capabilities.

6. A determination has been made that the recipient country can provide substantially the same degree of protection for the sensitive technology being released as the U.S. Government. This sale is necessary in furtherance of the U.S. foreign policy and national security objectives outlined in the Policy Justification.

7. All defense articles and services listed in this transmittal have been authorized for release and export to Denmark.

[FR Doc. 2019-27491 Filed 12-19-19; 8:45 am]

BILLING CODE 5001-06-P